DEPARTMENT OF LABOR

Occupational Safety and Health Administration

[Docket No. OSHA-2022-0002]

National Advisory Committee on Occupational Safety and Health (NACOSH); Notice of Membership Appointments

AGENCY: Occupational Safety and Health Administration (OSHA), Labor.

ACTION: Notice of NACOSH membership appointments.

SUMMARY: On January 16, 2023, the Secretary of Labor appointed four members to serve on the National Advisory Committee on Occupational Safety and Health (NACOSH).

FOR FURTHER INFORMATION CONTACT:

For press inquiries: Mr. Francis Meilinger, Director, OSHA Office of Communications, U.S. Department of Labor; telephone (202) 693-1999, (TTY (877) 889-5627); email meilinger.francis2@dol.gov.

For general information: Ms. Lisa Long, Acting Deputy Director, Directorate of Standards and Guidance, OSHA, U.S. Department of Labor; telephone (202) 693-2049; email long.lisa@dol.gov.

For copies of this Federal Register Notice: Electronic copies of this Federal Register notice are available at http://www.regulations.gov. This notice, as well as news releases and other relevant information, are also available at OSHA's web page at www.osha.gov.

SUPPLEMENTARY INFORMATION:

I. Background

The Occupational Safety and Health Act of 1970 (OSH Act) (29 U.S.C. 651, 656) established NACOSH to advise, consult with and make recommendations to the Secretary of Labor and the Secretary of Health and Human Services (HHS) on matters relating to the administration of the OSH Act. NACOSH is a continuing advisory committee of indefinite duration.

NACOSH operates in accordance with the Federal Advisory Committee Act (FACA) (5 U.S.C. App. 2), its implementing regulations (41 CFR part 102-3), and OSHA's regulations on advisory committees and NACOSH (29 CFR parts 1912 and 1912a).

NACOSH is comprised of 12 members: four public representatives, two management representatives, two labor representatives, two occupational safety professional representatives, and two occupational health professional representatives (29 CFR 1912a.2). The Secretary of Labor appoints all of these members. However, the Secretary of HHS designates four of the representatives: two of the four public representatives and the two occupational health professional representatives. NACOSH members serve staggered two-year terms, unless the member becomes unable to serve, resigns, ceases to be qualified to serve, or is removed by the Secretary.

On August 1, 2022, OSHA published a request for nominations for four NACOSH positions that would expire on January 14, 2023 (87 FR 47013). Specifically, OSHA requested nominations for:

• One (1) public representative;

• One (1) management representative;

• One (1) labor representative; and

• One (1) occupational safety professional representative.

OSHA handled the nominations consistent with the process identified in the FRN. The Secretary of Labor proceeded with the appointment of individuals to four positions on January 16, 2023.

II. Appointment of Committee Members

OSHA received nominations of highly qualified individuals in response to the agency's request for nominations (87 FR 47013, August 1, 2022). The Secretary appointed NACOSH members on the basis of their experience and competence in the field of occupational safety and health (29 CFR 1912a.2). The NACOSH members that the Secretary appointed on January 16, 2023 are:

Public Representative

• Nancy Daraiseh, University of Cincinnati (Term expires January 16, 2025)

Management Representative

• John A. Dony, National Safety Council (Term expires January 16, 2025)

Labor Representative

• Rebecca Reindel, AFL-CIO (Term expires January 16, 2025)

Occupational Safety Representative

• Kathleen Dobson, Alberici Constructors, Inc. (Term expires January 16, 2026)

Authority and Signature

James S. Frederick, Deputy Assistant Secretary of Labor for Occupational Safety and Health, directed the preparation of this notice under the authority granted by 29 U.S.C. 655 (b)(1) and 656(b), 5 U.S.C. App. 2, and 29 CFR parts 1912 and 1912a.

Signed at Washington, DC, on January 9, 2023.
James S. Frederick,
Deputy Assistant Secretary of Labor for Occupational Safety and Health.

[FR Doc. 2023-00812 Filed 1-17-23; 8:45 am]

BILLING CODE 4510-26-P